FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011793-001.

Title: Maersk Sealand/Great Western Asia-U.S. West Coast Slot Charter Agreement.

Parties: A.P. Moller-Maersk Sealand, Great Western Steamship Company.

Synopsis: The amendment to the agreement provides for regularly scheduled service in place of the previous ad hoc service.

By Order of the Federal Maritime Commission.
Dated: August 16, 2002.
Bryant L. VanBrakle,
Secretary.

[FR Doc. 02-21336 Filed 8-20-02; 8:45 am]

BILLING CODE 6730-01-P